INTERNATIONAL TRADE COMMISSION

[Investigation No. 332-540]

Digital Trade in the U.S. and Global Economies, Part 2; Proposed Information Collection; Comment Request; Digital Trade 2 Questionnaire

AGENCY: United States International Trade Commission

ACTION: In accordance with the provisions of the Paperwork Reduction Act of 1995 (44 U.S.C. Chapter 35), the U.S. International Trade Commission (Commission) hereby gives notice that it plans to submit a request for approval of a questionnaire to the Office of Management and Budget for review and requests public comment on its draft collection.

DATES: To ensure consideration, written comments on the questionnaire must be submitted on or before October 1, 2013.

ADDRESSES: Direct all written comments to James Stamps, Project Leader, U.S. International Trade Commission, 500 E Street SW., Washington, DC 20436 (or via email at james.stamps@usitc.gov).

ADDITIONAL INFORMATION: Copies of the questionnaire and supporting investigation documents may be obtained from project leader James Stamps (james.stamps@usitc.gov or 202-205-3227) or deputy project leader David Coffin (david.coffin@usitc.gov or 202-205-2232). Supporting documents may also be downloaded from the Commission Web site at http://www.usitc.gov/research_and_analysis/What_We_Are_Working_On.htm. Hearing-impaired individuals may obtain information on this matter by contacting the Commission's TDD terminal at 202-205-1810. General information concerning the Commission may also be obtained by accessing its Web site (http://www.usitc.gov). Persons with mobility impairments who will need special assistance in gaining access to the Commission should contact the Office of the Secretary at 202-205-2000.

Purpose of Information Collection: The information requested by the questionnaire is for use by the Commission in connection with Investigation No. 332-540, Digital Trade in the U.S. and Global Economies, Part 2, instituted under the authority of section 332(g) of the Tariff Act of 1930 (19 U.S.C. 1332(g)). This investigation was requested by the Senate Committee on Finance (Committee). The Committee requested that this investigation include a survey of U.S. firms in selected industries particularly involved in digital trade. The Commission expects to deliver its report to the Committee by July 14, 2014.

Summary of Proposal

(1) Number of forms submitted: 1.

(2) Title of form: Digital Trade in the U.S. and Global Economies, Part 2 Questionnaire.

(3) Type of request: New.

(4) Frequency of use: Industry questionnaire, single data gathering, scheduled for 2013.

(5) Description of respondents: Companies in industries particularly involved in digital trade.

(6) Estimated number of respondents: 15,000.

(7) Estimated total number of hours to complete the questionnaire per respondent: 3 hours.

(8) Information obtained from the questionnaire that qualifies as confidential business information will be so treated by the Commission and not disclosed in a manner that would reveal the individual operations of a firm.

SUPPLEMENTARY INFORMATION:

I. Abstract

The U.S. Senate Committee on Finance has directed the Commission to produce a report that: (1) Estimates the value of U.S. digital trade, and the potential growth of this trade; (2) provides insight into the broader linkages and contributions of digital trade to the U.S. economy; (3) presents case studies that examine the importance of digital trade to selected U.S. industries that use or produce such goods and services; and (4) examines the effect of notable barriers and impediments to digital trade on selected industries and the broader U.S. economy. The Commission will base its report on a review of available data and other information, including the collection of primary data through a survey of U.S. firms in industries particularly involved in digital trade.

II. Method of Collection

Respondents will be mailed a letter directing them to download and fill out a form-fillable PDF questionnaire. Once complete, respondents may submit it by uploading it to a secure webserver, emailing it to the study team, faxing it, or mailing a hard copy to the Commission.

III. Request for Comments

Comments are invited on: (1) Whether the proposed collection of information is necessary; (2) the accuracy of the agency's estimate of the burden (including hours and cost) of the proposed collection of information; (3) ways to enhance the quality, utility, and clarity of the information to be collected; and (4) ways to minimize the burden of the collection of information on respondents, including through the use of automated collection techniques or other forms of information technology.

The draft questionnaire and other supplementary documents may be downloaded from the USITC Web site at http://www.usitc.gov/332540comments.

Comments submitted in response to this notice will be summarized and/or included in the request for OMB approval of this information collection; they will also become a matter of public record.

By order of the Commission
Issued: July 30, 2013.
Lisa R. Barton,
Acting Secretary to the Commission.

[FR Doc. 2013-18685 Filed 8-1-13; 8:45 am]

BILLING CODE 7020-02-P